DEPARTMENT OF JUSTICE

Notice of Lodging of Proposed Consent Decree Under The Clean Water Act and Oil Pollution Act

On January 25, 2018, the Department of Justice lodged a proposed Consent Decree with the United States District Court for the Western District of Washington in the lawsuit entitled United States, State of Washington through the Washington Department of Ecology, Suquamish Tribe, and Tulalip Tribes v. Jeld-Wen, Inc., Kimberly Clark Corp., and Weyerhaeuser NR Company, Civil Action No. 2:18-cv-00113.

The proposed Consent Decree resolves claims alleged against the Defendants for natural resource damages caused by discharges of hazardous substances and oil to the Port Gardner Bay Area in Everett, Washington. The settlement requires each Defendant to pay its allocated share of the total damages estimated for the Port Gardner Bay Area and the assessment costs incurred by the Natural Resource Trustees. The Consent Decree requires natural resource damages payments totaling $3,946,633 and reimbursement of assessment costs totaling $344,253. The Defendants will receive covenants not to sue under the Clean Water Act; the Oil Pollution Act; the Comprehensive Environmental Response, Compensation and Liability Act (“CERCLA”); and the State of Washington Model Toxics Control Act for natural resource damages caused by discharges of hazardous substances and oil from their respective facilities, identified in Appendix B to the Decree, to the Port Gardner Bay Area.

The publication of this notice opens a period for public comment on the Consent Decree. Comments should be addressed to the Assistant Attorney General, Environment and Natural Resources Division, and should refer to United States, State of Washington through the Washington Department of Ecology, Suquamish Tribe, and Tulalip Tribes v. Jeld-Wen, Inc., Kimberly Clark Corp., and Weyerhaeuser NR Company, D.J. Ref. No. 90-11-3-10859. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.50 (25 cents per page reproduction cost) payable to the United States Treasury.

Susan M. Akers,
Assistant Section Chief, Environmental Enforcement Section, Environment and Natural Resources Division.

[FR Doc. 2018-01841 Filed 1-30-18; 8:45 am]

BILLING CODE 4410-15-P